FEDERAL COMMUNICATIONS COMMISSION

47 CFR Part 73

[DA 00-2105; MM Docket No. 00-56; RM-9839; RM-9905; RM-9906]

Radio Broadcasting Services; Eastman, Vienna, Ellaville and Byromville, GA

AGENCY: Federal Communications Commission.

ACTION: Final rule.

SUMMARY: The Commission dismisses the request of Clyde and Connie Lee Scott, d/b/a EME Communications, to allot Channel 221A to Eastman, Georgia, as the community's second local FM and third local aural service, since neither it nor any other party filed comments expressing an intention to apply for the channel, if allotted. See 65 FR 25697, May 3, 2000. At the request of Morgan Dowdy, Channel 221A is allotted to Vienna, GA, as the community's first local FM service. At the request of Radio Center Corp., Channel 290A is allotted to Ellaville, GA, as its first local aural service. Channel 221A can be allotted to Vienna in compliance with the Commission's minimum distance separation requirements with a site restriction of 1.7 kilometers (1.1 miles) northeast, at coordinates 32-06-55 NL; 83-47-57 WL, to avoid a short-spacing to Station WDDQ, Channel 221A, Adel, Georgia. Channel 290A can be allotted to Ellaville with a site restriction of 9.5 kilometers (5.9 miles) southeast, at coordinates 32-11-15 NL; 84-13-15 WL, to avoid a short-spacing to Station WSTH-FM, Channel 291C1, Alexander, AL. The counterproposal filed by Murphy Broadcasting to allot Channel 221A to Byromville, GA, as its first local aural service, is dismissed since it failed to serve the petitioner with a copy of its counterproposal as required by Section 1.420(a) of the Commission's Rules. A filing window for Channel 221A at Vienna and Channel 290A at Ellaville will not be opened at this time. Instead, the issue of opening a filing window for these channels will be addressed by the Commission in a subsequent order.

DATES: Effective October 30, 2000.

FOR FURTHER INFORMATION CONTACT: Leslie K. Shapiro, Mass Media Bureau, (202) 418-2180.

SUPPLEMENTARY INFORMATION: This is a synopsis of the Commission's Report and Order, MM Docket No. 00-56, adopted September 6, 2000, and released September 15, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW., Washington, DC 20036.

List of Subjects in 47 CFR Part 73

Radio broadcasting.

Part 73 of title 47 of the Code of Federal Regulations is amended as follows:

PART 73—[AMENDED]

1. The authority citation for Part 73 continues to read as follows:

Authority: 47 U.S.C. 154, 303, 334. 336.

§ 73.202 [Amended]

2. Section 73.202(b), the Table of FM Allotments under Georgia, is amended by adding Ellaville, Channel 290A, and Vienna, Channel 221A.

Federal Communications Commission.
John A. Karousos,
Chief, Allocations Branch, Policy and Rules Division, Mass Media Bureau.

[FR Doc. 00-24644 Filed 9-25-00; 8:45 am]

BILLING CODE 6712-01-P